ENVIRONMENTAL PROTECTION AGENCY

[EPA-HQ-OECA-2009-0124; FRL-8925-5]

Agency Information Collection Activities; Submission to OMB for Review and Approval; Comment Request; Auto Body Compliance Assessment Pilot Project (New); EPA ICR No. 2344.01, OMB Control No. 2020-NEW

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before August 3, 2009.

ADDRESSES: Submit your comments, referencing Docket ID No. EPA HQ-OECA-2009-0124, to (1) EPA online using www.regulations.gov (our preferred method), by e-mail to docket.oeca@epa.gov, or by mail to: EPA Docket Center (EPA/DC), Environmental Protection Agency, Enforcement and Compliance Docket and Information Center, mail code 28221T, 1200 Pennsylvania Avenue, NW., Washington, DC 20460, and (2) OMB by mail to: Office of Information and Regulatory Affairs, Office of Management and Budget (OMB), Attention: Desk Officer for EPA, 725 17th Street, NW., Washington, DC 20503.

FOR FURTHER INFORMATION CONTACT: Kenneth Harmon, Office of Compliance, (2224A), Environmental Protection Agency, 1200 Pennsylvania Ave., NW., Washington, DC 20460; telephone number: (202) 564-7049; fax number: (202) 564-7083; e-mail address: harmon.kenneth@epa.gov.

SUPPLEMENTARY INFORMATION: EPA has submitted the following ICR to OMB for review and approval according to the procedures prescribed in 5 CFR 1320.12. On February 25, 2009 (74 FR 8534), EPA sought comments on this ICR pursuant to 5 CFR 1320.8(d). EPA received no comments. Any additional comments on this ICR should be submitted to EPA and OMB within 30 days of this notice.

EPA has established a public docket for this ICR under Docket ID No. EPA-HQ-OECA-2009-0124, which is available for online viewing at www.regulations.gov, or in person viewing at the OECA Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for OECA Docket is 202-566-1752.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: Auto Body Compliance Assessment Pilot Project (New).

ICR Numbers: EPA ICR No. 2344.01, OMB Control No. 2020-NEW.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The purpose of the ICR is two-fold. First, it is to authorize the collection of information as part of a pilot study undertaken by EPA to evaluate whether and how EPA's specific compliance assistance activities in Region 1 helped owners or operators of auto body shops improve their operations. The ICR would authorize the administration of surveys, by telephone and on-site, to a random sample of auto body shops subject to National Emission Standards for Hazardous Air Pollutants: Paint Stripping and Miscellaneous Surface Coating Operations at Area Sources (NESHAP Subpart HHHHHH, hereinafter referred to as the Surface Coating Rule.). Specifically, the study has been designed to assess whether or not the assistance provided helped owners or operators understand these and other applicable environmental regulations, and whether or not the assistance helped owners or operators implement operational changes that improved environmental practices; including changes in behavior that resulted in the auto body shop either returning to compliance with regulations or taking steps toward achieving compliance. EPA has two objectives in collecting this information for the pilot study: (1) EPA's primary objective is to assess the degree to which its compliance assistance activities can be correlated to improved environmental performance at auto body shops; (2) EPA's secondary objective is to assess the validity of environmental performance information collected by telephone surveys. The Agency frequently relies on telephone surveys to gather information about environmental performance, but such self-reported data may not be accurate, and may suffer from non-response bias. The design for this study addresses both concerns.

The second use for this ICR is to authorize the use of these surveys to collect anecdotal information as part of the Agency's efforts to assess outcomes associated with the Office of Air Quality Planning and Standard's Collision Repair Campaign (CRC). The CRC is a two-year campaign during which the EPA Headquarters Office of Air Quality Planning and Standards (OAQPS) and the ten EPA Regions will address health threats by reducing toxic auto body coating emissions at the national level. Each EPA regional office involved in the campaign will work with its respective partners (e.g., community, industry, small businesses, etc.) to help shop owners reduce paint, solvent and related hazardous waste disposal costs. The CRC also aims to achieve enhanced compliance with the Surface Coating Rule by encouraging shops to reduce pollutant emissions early and to levels beyond those required by the rule. The CRC team will use the surveys to collect anecdotal information about the use of emission reduction best practices at auto body shops and measure the effectiveness of particular outreach, education, and training activities undertaken as part of the CRC. The team will use that information to judge the success and efficacy of the specific outreach activity surveyed, and information collected can be used to help improve program implementation.

The information obtained under this ICR will not be used to make major policy decisions. No confidential or sensitive data will be collected under this ICR. This is a pilot project designed to help EPA improve its data collection methods and improve its analyses of the Agency's compliance assistance program.

A respondent's participation in this information collection process will be voluntary. The survey questions are designed to assess whether the assistance provided during the pilot helped the owner/operator understand the applicable environmental regulations, and whether the assistance helped the owner/operator implement operational changes that resulted in improved environmental practices. Improved environmental practices include a change in behavior that resulted in a shop either returning to compliance with regulations or taking steps toward achieving compliance.

Burden Statement: The annual public reporting and recordkeeping burden for this collection of information is estimated to be average a response time of 10 minutes for each phone survey, and 75 minutes for each on-site visit. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Automotive body, paint, and interior repair and maintenance shops located in risk-based clusters in Massachusetts, Oklahoma and Virginia. Surveys conducted for the Collision Repair Campaign may be administered to owners or operators of collision repair or auto body shops who have completed training provided by the CRC team and their partners or who have requested and received materials developed by the team such as DVDs, brochures, Web sites, etc., anywhere in the U.S.

Estimated Number of Respondents: 1,840 for the auto body shop study, and 7,500 for the Collision Repair Campaign.

Frequency of Response: 3,113 responses annually.

Estimated Total Annual Hour Burden: 1,617 hours.

Estimated Total Annual Cost: $152,510 includes $0 annualized capital or O&M costs.

Changes in the Estimates: This is a new collection.

Dated: June 24, 2009.
John Moses,
Director, Collection Strategies Division.

[FR Doc. E9-15690 Filed 7-1-09; 8:45 am]

BILLING CODE 6560-50-P